DEPARTMENT OF TRANSPORTATION

Federal Aviation Administration

Change Notice for RTCA Program Management Committee

AGENCY: Federal Aviation Administration (FAA), DOT.

ACTION: Notice of change to RTCA Program Management Committee meeting.

SUMMARY: The FAA is issuing this notice to advise the public of a change to a meeting of the RTCA Program Management Committee.

DATES: The September 13, 2001 meeting announced in the Federal Register Volume 66 FR 43951 (Tuesday, August 21, 2001), 3rd column, has been changed. The meeting will now be held on October 12, 2001, starting at 8:30 am.

ADDRESSES: The meeting will be held at RTCA, Inc., 1828 L Street, NW., Suite 850, Washington, DC 20036.

FOR FURTHER INFORMATION CONTACT: RTCA Secretariat, 1828 L Street, NW., Suite 850, Washington, DC 20036; telephone (202) 833-9339; fax (202) 833-9434; web site http://www.rtca.org.

SUPPLEMENTARY INFORMATION: Pursuant to section 10(a)(2) of the Federal Advisory Committee (Pub. L. 92-463, 5 U.S.C., Appendix 2), notice is hereby given for a change to a Program Management Committee meeting. The revised agenda will include:

• October 12:

• Opening Session (Welcome and Introductory Remarks, Review/Approve Summary of Previous Meeting)

• Publication Consideration/Approval:

• Final Draft, Minimum Aviation System Performance Standards (MASPS) of the Aeronautical Mobile-Satellite (R) Service (AMS(R)S) as Used in Aeronautical Data Links, RTCA Paper No. 194-01/PMC-156, prepared by SC-165

• Final Draft, Minimum Operational Performance Standards (MOPS) for Aircraft VDL Mode 3 Transceiver Operating in the Frequency Range 117.975-137.000 MHz, prepared by SC-172, RTCA Paper No. 190-01/PMC-154

• Final Draft, Change 1, DO-224A, Signal-in-Space Minimum Aviation System Performance Standards (MASPS) for Advanced VHF Digital Data Communication Including Compatibility with Digital Voice Techniques, RTCA Paper No. 212-01/PMC-160, prepared by SC-172

• Final Draft DO-248B, Final Annual Report for Clarification of DO-178B Software Considerations in Airborne Systems and Equipment Certification, RTCA Paper No. 224-01/PMC-162, prepared by Joint Committee SC-190/WG-52

• Final Draft, User Requirements for Aerodrome Mapping Information, RTCA Paper No. 191-01/PMC-155, prepared by Joint Committee SC-193-WG-44

• Final Draft, Response to the Report of the RTCA Chairman's Committee on NEXCOM, RTCA Paper No. 243-01/PMC-166, prepared by SC-198

• Final Draft, Minimum Operational Performance Standards for Integrated Night Vision Imaging System Equipment, RTCA Paper No. 238-01/PMC-164, prepared by SC-196

• Discussion:

• Special Committee 188, High Frequency Data Link; Request for Extension of due date

• Special Committee 189, NEXCOM; Update to Terms of Reference

• Special Committee 147, TCAS; Proposed Additional Tasking

• Special Committee Chairman's Report.

• Action Item Review:

• Action Item 05-01, Recommendation for a Multi-Function Display

• Action Item 06-01, Modular Avionics Special Committee to work jointly with EUROCAE Working Group

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 24, 2001.
Janice L. Peters,
FAA Special Assistant, RTCA Advisory Committee.

[FR Doc. 01-24616 Filed 10-1-01; 8:45 am]

BILLING CODE 4910-13-M